GENERAL SERVICES ADMINISTRATION

41 CFR Part 102-74

[Notice-MA-2025-11; Docket No. 2025-0002; Sequence 9]

Federal Management Regulation; Soliciting Union Memberships Among Contractors in GSA-Controlled Buildings; Planned Rescission

AGENCY: Office of Government-wide Policy (OGP), General Services Administration (GSA).

ACTION: Notification of upcoming rescission of FMR Case 2022-02.

SUMMARY: GSA plans to issue a final rule rescinding the Federal Management Regulation (FMR) Case 2022-02, “Soliciting Union Memberships Among Contractors in GSA-Controlled Buildings,” published on September 2, 2022.

DATES: April 16, 2025.

ADDRESSES: Those interested can view FMR Case 2022-02 at https://www.regulations.gov/document/GSA-FMR-2022-0011-0001.

FOR FURTHER INFORMATION CONTACT: For clarification of content please contact Alexander Kurien, Office of Government-wide Policy, at (202) 208-7642, or by email at realpropertypolicy@gsa.gov. Please cite Notice for Rescission of FMR Case 2022-02.

SUPPLEMENTARY INFORMATION: GSA plans to rescind FMR Case 2022-02 (FR Doc. 2022-17949 (87 FR 54166, September 2, 2022)) in line with Executive Order 14192, Unleashing Prosperity Through Deregulation. GSA will amend the FMR to apply these changes to the soliciting, vending, and debt collection policy. This upcoming rule will clarify that activities related to worker organizing and collective bargaining among contractors' employees working in Federal Government facilities are covered or restricted by the general prohibition on soliciting, posting, and distributing materials in or on Federal property under the jurisdiction, custody, or control of GSA (GSA-controlled property).

Larry Allen,
Associate Administrator, Office of Government-wide Policy.

[FR Doc. 2025-06181 Filed 4-15-25; 8:45 am]

BILLING CODE 6820-14-P